NATIONAL INDIAN GAMING COMMISSION

Notice of Approved Class III Tribal Gaming Ordinance

AGENCY: National Indian Gaming Commission.

ACTION: Notice.

SUMMARY: The purpose of this notice is to inform the public of the approval of Little River Band of Ottawa Indians Tribe Class III gaming ordinance by the Chairman of the National Indian Gaming Commission.

DATES: This notice is applicable July 28, 2025.

FOR FURTHER INFORMATION CONTACT: Dena Wynn, Office of General Counsel at the National Indian Gaming Commission, 202-632-7003, or by facsimile at 202-632-7066 (not toll-free numbers).

SUPPLEMENTARY INFORMATION: The Indian Gaming Regulatory Act (IGRA) 25 U.S.C. 2701 et seq., established the National Indian Gaming Commission (Commission). Section 2710 of IGRA authorizes the Chairman of the Commission to approve Class II and Class III tribal gaming ordinances. Section 2710(d)(2)(B) of IGRA, as implemented by NIGC regulations, 25 CFR 522.8, requires the Chairman to publish, in the Federal Register, approved Class III tribal gaming ordinances and the approvals thereof.

IGRA requires all tribal gaming ordinances to contain the same requirements concerning tribes' sole proprietary interest and responsibility for the gaming activity, use of net revenues, annual audits, health and safety, background investigations and licensing of key employees and primary management officials. The Commission, therefore, believes that publication of each ordinance in the Federal Register would be redundant and result in unnecessary cost to the Commission.

Thus, the Commission believes that publishing a notice of approved Class III tribal gaming ordinances in the Federal Register, is sufficient to meet the requirements of 25 U.S.C. 2710(d)(2)(B). Every ordinance and approval thereof is posted on the Commission's website (www.nigc.gov) under General Counsel, Gaming Ordinances within five (5) business days of approval.

On May 29, 2024, the Chairman of the National Indian Gaming Commission approved Little River Band of Ottawa Indians Tribe Class III Gaming Ordinance. A copy of the approval letter is posted with this notice and can be found with the approved ordinance on the NIGC's website (www.nigc.gov) under General Counsel, Gaming Ordinances. A copy of the approved Class III ordinance will also be made available upon request. Requests can be made in writing to the Office of General Counsel, National Indian Gaming Commission, Attn: Dena Wynn, 1849 C Street NW, MS #1621, Washington, DC 20240 or at (www.nigc.gov) under General Counsel, Gaming Ordinances. A copy of the approved Class III ordinance will also be made available upon request. Requests can be made in writing to the Office of General Counsel, National Indian Gaming Commission, Attn: Dena Wynn, 1849 C Street NW, MS #1621, Washington, DC 20240 or at info@nigc.gov.

National Indian Gaming Commission.
Dated: March 14, 2025
Rea Cisneros,
General Counsel (Acting).

Editorial Note: This document was received for publication by the Office of the Federal Register on July 24, 2025.

May 29, 2024

VIA EMAIL

Gary Pitchlynn

P.O. Box 722786

Norman, OK 73070

Re: Little River Band of Ottawa Indians Amended Gaming Ordinance

Dear Mr. Pitchlynn:

This letter responds to your May 2, 2024 submission on behalf of the Little River Band of Ottawa Indians (“Band”) for the National Indian Gaming Commission (“NIGC”) Chairwoman to review and approve amendments to the Band's gaming ordinance. The Band adopted the Ordinance through resolution #24-0424-077 on April 24, 2024. We understand that these amendments ensure consistency with updated NIGC regulations.

Thank you for bringing these amendments to our attention. The amended ordinance is approved as it is consistent with the requirements of IGRA and NIGC's regulations. If you have any questions, please contact NIGC Staff Attorney Josh Proper at joshua.proper@nigc.gov or (540) 760-3026.

Sincerely,

Sharon M. Avery,

NIGC Chairwoman (A).

[FR Doc. 2025-14196 Filed 7-25-25; 8:45 am]

BILLING CODE 7565-01-P